DEPARTMENT OF JUSTICE

Notice of Lodging of Proposed Consent Decree Under the Clean Air Act

On May 13, 2019, the Department of Justice lodged a proposed Consent Decree with the United States District Court for the Northern District of Indiana in the lawsuit entitled United States, State of Indiana, and State of Ohio v. ArcelorMittal USA LLC, ArcelorMittal Burns Harbor LLC, and ArcelorMittal Cleveland LLC, Civil Action No. 2:19-cv-00179.

The proposed Consent Decree resolves a Complaint filed against ArcelorMittal USA LLC, ArcelorMittal Burns Harbor LLC, and ArcelorMittal Cleveland LLC as the owners and operators of the three steel plants in Indiana and one plant in Ohio that are the subject of the action. The Complaint asserts 18 claims pursuant to the Clean Air Act (“CAA”) for violations of: (1) National Emission Standards for Hazardous Air Pollutants promulgated under CAA Section 112, 42 U.S.C. 7412, and the implementing regulations governing various specific source areas; (2) the New Source Performance Standards promulgated under CAA Section 111(b)(1)(A), 42 U.S.C. 7411(b)(1)(A), and the regulations governing electric arc furnaces at steel facilities, 40 CFR part 60, subpart AAa; (3) Title V of the CAA, 42 U.S.C. 7661 et seq., and Title V's implementing federal, Indiana, and Ohio regulations; and (4) the federally enforceable CAA State Implementation Plans for Indiana and Ohio, which incorporate and/or implement the above-listed federal requirements.

Under the proposed Consent Decree, ArcelorMittal USA, ArcelorMittal Burns Harbor, and ArcelorMittal Cleveland shall pay a total aggregate civil penalty of $5,002,158. Of the total civil penalty, $2,594,829 will be paid to the United States; $2,035,469.50 will be paid to the State of Indiana; and $371,859.50 will be paid to the State of Ohio. The proposed Consent Decree includes injunctive relief in the form of various compliance monitoring activities and recognizes that during the course of the negotiations Defendants expended an estimated $22 million to address sulfur dioxide, nitrogen oxide, particulate matter, volatile organic compounds, and carbon monoxide emission concerns identified in the U.S. Environmental Protection Agency's 2011 and 2019 Notices of Violation/Findings of Violation regarding the Indiana and Ohio facilities. Additionally, the proposed Consent Decree provides for the transfer of five acres of Lake Michigan beachfront property, appraised at $350,000, from ArcelorMittal USA LLC to the City of East Chicago, Indiana, for community benefit as a State of Indiana Supplemental Environmental Project.

The publication of this notice opens a period for public comment on the Consent Decree. Comments should be addressed to the Assistant Attorney General, Environment and Natural Resources Division, and should refer to United States, State of Indiana, and State of Ohio v. ArcelorMittal USA LLC, ArcelorMittal Burns Harbor LLC, and ArcelorMittal Cleveland LLC, D.J. Ref. No. 90-5-2-1-09354. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees.

We will provide a paper copy of the Consent Decree upon written request and payment of reproduction costs. Please mail your request and payment to: Consent Decree Library, U.S. DOJ—ENRD, P.O. Box 7611, Washington, DC 20044-7611.

Please enclose a check or money order for $61.50 (25 cents per page reproduction cost) payable to the United States Treasury. For a paper copy without the exhibits and signature pages, the cost is $11.75.

Randall M. Stone,
Acting Assistant Section Chief, Environmental Enforcement Section, Environment and Natural Resources Division.

[FR Doc. 2019-10342 Filed 5-17-19; 8:45 am]

BILLING CODE 4410-15-P